DEPARTMENT OF TRANSPORTATION

Federal Aviation Administration

Notice of Intent To Rule on Request To Release Airport Property at the Blair Municipal Airport, Blair, NE

AGENCY: Federal Aviation Administration, (FAA), DOT.

ACTION: Notice of request to release airport property.

SUMMARY: The FAA proposes to rule and invites public comment on the release of land at the Blair Municipal Airport under the provisions of Section 125 of the Wendell H. Ford Aviation Investment Reform Act for the 21st Century (AIR 21).

DATES: Comments must be received on or before October 6, 2006.

ADDRESSES: Comments on this application may be mailed or delivered to the FAA at the following address: Federal Aviation Administration, Central Region, Airports Division, 901 Locust, Kansas City, Missouri 64106-2325.

In addition, one copy of any comments submitted to the FAA must be mailed or delivered to Anna Lannin, Engineering Division, Nebraska Department of Aeronautics, P.O. Box 82088, Lincoln, NE 68501.

FOR FURTHER INFORMATION CONTACT: Nicoletta Oliver, Airports Compliance Specialist, FAA, Central Region, 901 Locust, Kansas City, MO 64106-2325, (816) 329-2642.

The request to release property may be reviewed in person at this same location.

SUPPLEMENTARY INFORMATION: The FAA proposes to rule and invites public comment on the request to release property at the Blair Municipal Airport under the provisions of AIR21.

On August 24, 2006, the FAA determined that the request to release property at the Blair Municipal Airport, submitted by the Nebraska Department of Aeronautics, as agent for the Blair Airport Authority, met the procedural requirements of the Federal Aviation Administration. The FAA will approve or disapprove the request, in whole or in part, no later than November 30, 2006.

The following is a brief overview of the request.

The Blair Airport Authority requests the release of approximately 13.97 acres of airport property. The land is currently not being used for aeronautical purposes. The purpose of this release is to sell the land to the Nebraska Department of Roads (NDR) for improvements to U.S. Highway 133.

Any person may inspect the request in person at the FAA office listed above under FOR FURTHER INFORMATION CONTACT.

In addition, any person may, upon request, inspect the application, notice and other documents that are relevant to the request, in person at the Nebraska Department of Aeronautics, Lincoln, Nebraska.

Issued in Kansas City, Missouri, on August 24, 2006.
George A. Hendon,
Manager, Airports Division, Central Region.

[FR Doc. 06-7459 Filed 9-5-06; 8:45 am]

BILLING CODE 4910-13-M